INTERNATIONAL TRADE COMMISSION

[Investigation No. 337-TA-784]

Certain Light-Emitting Diodes and Products Containing the Same; Determination Not To Review Initial Determination Concerning Motion To Amend the Complaint and Notice of Investigation

AGENCY: U.S. International Trade Commission.

ACTION: Notice.

SUMMARY: Notice is hereby given that the U.S. International Trade Commission has determined not to review an initial determination (“ID”) (Order No. 9) of the presiding administrative law judge (“ALJ”) granting in part and denying in part complainant's motion to amend the complaint and notice of investigation.

FOR FURTHER INFORMATION CONTACT: Michael Liberman, Esq., Office of the General Counsel, U.S. International Trade Commission, 500 E Street SW., Washington, DC 20436, telephone (202) 205-3106. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on July 11, 2011, based on two complaints filed by OSRAM GmbH of Munich, Germany (“OSRAM”), alleging, inter alia, a violation of section 337 in the importation, sale for importation, and sale within the United States after importation of certain light-emitting diodes and products containing same by reason of infringement of certain claims of U.S. Patent Nos. 6,849,881 (“the `881 patent”); 6,975,011; 7,106,090 (“the `090 patent”); 7,151,283; and 7,271,425. 76 FR 40746 (Jul. 11, 2011). The respondents are LG Electronics, Inc. of Seoul, South Korea; LG Innotek Co., Ltd. of Seoul, South Korea; LG Electronics U.S.A., Inc. of Englewood Cliffs, New Jersey; and LG Innotek U.S.A., Inc. of San Diego, California (collectively, “LG”). Id.

Complainant OSRAM moved to amend the complaint and notice of investigation to withdraw all allegations with respect to the `881 and `090 patents, and to add allegations of a violation of Section 337 by all respondents as to claims 1, 3, 5, 6, 7, 9-12, 15-17, 20, 22, 24, 25, 27, 28, 30, and 33-35 of U.S. Patent No. 7,341,925 (“the `925 patent”). Respondent LG filed a response supporting the withdrawal of allegations with respect to the `881 and `090 patents, and opposing OSRAM's request to add allegations with respect to the `925 patent.

On December 8, 2011, the presiding ALJ issued an ID (Order No. 9). The ALJ granted OSRAM's motion in part to the extent that it sought termination of the `881 patent and the `090 patent from the investigation, and denied the portion of OSRAM's motion that sought to add the `925 patent to this investigation. No party petitioned for review. The Commission has determined not to review the ID.

The authority for the Commission's determination is contained in section 337 of the Tariff Act of 1930, as amended, 19 U.S.C. 1337, and in section 210.42(h) of the Commission's Rules of Practice and Procedure, 19 CFR 210.42(h).

By order of the Commission.
Issued: December 30, 2011.
James R. Holbein,
Secretary to the Commission.

[FR Doc. 2012-13 Filed 1-5-12; 8:45 am]

BILLING CODE 7020-02-P